DEPARTMENT OF TRANSPORTATION

Federal Aviation Administration

14 CFR Part 39

[Docket No. FAA-2006-26378; Directorate Identifier 2006-NM-230-AD]

RIN 2120-AA64

Airworthiness Directives; Bombardier Model CL-600-2B16 (CL-604) Airplanes and Model CL-600-2B19 (Regional Jet Series 100 & 440) Airplanes

AGENCY: Federal Aviation Administration (FAA), Department of Transportation (DOT).

ACTION: Notice of proposed rulemaking (NPRM).

SUMMARY: The FAA proposes to supersede an existing airworthiness directive (AD) that applies to certain Bombardier Model CL-600-2B16 (CL-604) airplanes and Model CL-600-2B19 (Regional Jet Series 100 & 440) airplanes. These models may be referred to by their marketing designations as RJ100, RJ200, RJ440, CRJ100, CRJ200, CRJ440, and CL-65. The existing AD currently requires revising the Emergency Procedures section of the airplane flight manual (AFM) to advise the flightcrew of additional procedures to follow in the event of stabilizer trim runaway. The existing AD also requires revising the Abnormal Procedures section of the AFM to advise the flightcrew of procedures to follow in the event of MACH TRIM, STAB TRIM, and horizontal stabilizer trim malfunctions. The existing AD also requires revising the Normal section of the AFM to require a review of the location of certain circuit breakers and a functional check of the stabilizer trim system. The existing AD also requires installing circuit breaker identification collars and provides an optional terminating action for the requirements of the AD. This proposed AD would require doing the previously optional terminating action (installation of a new horizontal stabilizer trim control unit). This proposed AD results from a determination that the terminating action is necessary to address uncommanded horizontal stabilizer trim motion. We are proposing this AD to prevent horizontal stabilizer trim uncommanded motion, which could result in reduced controllability of the airplane.

DATES: We must receive comments on this proposed AD by December 22, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Bombardier, Inc., Canadair, Aerospace Group, P.O. Box 6087, Station Centre-ville, Montreal, Quebec H3C 3G9, Canada, for service information identified in this proposed AD.

FOR FURTHER INFORMATION CONTACT: Daniel Parrillo, Aerospace Engineer, Systems and Flight Test Branch, ANE-172, FAA, New York Aircraft Certification Office, 1600 Stewart Avenue, suite 410, Westbury, New York 11590; telephone (516) 228-7305; fax (516) 794-5531.

SUPPLEMENTARY INFORMATION:

Comments Invited

We invite you to submit any relevant written data, views, or arguments regarding this proposed AD. Send your comments to an address listed in the ADDRESSES section. Include the docket number “Docket No. FAA-2006-26378; Directorate Identifier 2006-NM-230-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On October 13, 2006, we issued AD 2006-22-06, amendment 39-14803 (71 FR 63219, October 30, 2006), for certain Bombardier Model CL-600-2B16 (CL-604) airplanes and Model CL-600-2B19 (Regional Jet Series 100 & 440) airplanes. That AD requires revising the Emergency Procedures section of the airplane flight manual (AFM) to advise the flightcrew of additional procedures to follow in the event of stabilizer trim runaway. That AD also requires revising the Abnormal Procedures section of the AFM to advise the flightcrew of procedures to follow in the event of MACH TRIM, STAB TRIM, and horizontal stabilizer trim malfunctions. That AD also requires revising the Normal section of the AFM to require a review of the location of certain circuit breakers and a functional check of the stabilizer trim system. That AD also requires installing circuit breaker identification collars and provides an optional terminating action for the requirements of the AD. That AD resulted from reports of uncommanded horizontal stabilizer trim motion. We issued that AD to ensure that the flightcrew is advised of appropriate procedures to follow in the event of uncommanded movement or stabilizer trim runaway. Failure to follow these procedures could result in excessive uncommanded movement of the horizontal stabilizer trim actuator (HSTA) and loss of ability to use trim switches to override uncommanded movement or yoke disconnect switches to disconnect the HSTA, which could result in reduction of or loss of pitch control and consequent reduced controllability of the airplane.

Actions Since Existing AD Was Issued

The preamble to AD 2006-22-06 explains that we consider the requirements of that AD “interim action” and that we were considering further rulemaking. We now have determined that further rulemaking is indeed necessary, and this proposed AD follows from that determination. The optional terminating action specified in AD 2006-22-06 (installation of a new, improved horizontal stabilizer trim control unit (HSTCU)) is necessary to address the identified unsafe condition.

Transport Canada Civil Aviation (TCCA), which is the airworthiness authority for Canada, mandated the terminating action and issued Canadian airworthiness directives CF-2006-20R1, dated October 4, 2006, and CF-2006-21R1, dated October 3, 2006, to ensure the continued airworthiness of these airplanes in Canada.

FAA's Determination and Requirements of the Proposed AD

These airplane models are manufactured in Canada and are type certificated for operation in the United States under the provisions of section 21.29 of the Federal Aviation Regulations (14 CFR 21.29) and the applicable bilateral airworthiness agreement. Pursuant to this bilateral airworthiness agreement, TCCA has kept the FAA informed of the situation described above. We have examined TCCA's findings, evaluated all pertinent information, and determined that AD action is necessary for airplanes of this type design that are certificated for operation in the United States.

This proposed AD would supersede AD 2006-22-06 and would continue to require revising the Emergency, Normal, and Abnormal Procedures sections of the AFM and installing circuit breaker identification collars. This proposed AD would also require doing the terminating action (installation of a new HSTCU).

Difference Between Canadian Airworthiness Directives and Proposed AD

Although Canadian airworthiness directives CF-2006-20R1 and CF-2006-21R1 recommend accomplishing the terminating action within 12 months, this proposed AD would require accomplishment within 9 months in order to match the date the actions required by the Canadian airworthiness directives must be completed. We find that 9 months is an appropriate compliance time to complete the terminating action. This has been coordinated with TCCA.

Change to Existing AD

This proposed AD would retain only certain requirements of AD 2006-22-06. As a result, the corresponding paragraph identifiers have changed in this proposed AD, as listed in the following table:

Revised Paragraph Identifiers
Requirement in AD 2006-22-06 | Corresponding requirement in this proposed AD
Paragraph (h) | Paragraph (f).
Paragraph (i) | Paragraph (g).
Paragraph (j) | Paragraph (h).
Paragraph (k) | Paragraph (i).
Paragraph (l) | Paragraph (j).
Paragraph (m) | Paragraph (l).
Paragraph (n) | Paragraph (m).
Paragraph (o) | Paragraph (k).

Costs of Compliance

The following table provides the estimated costs for U.S. operators to comply with this proposed AD. The average labor rate per hour is $80.

Estimated Costs
Action | Work hours | Parts | Cost per airplane | Number of U.S.-registered airplanes | Fleet cost
AFM Revisions and Installation of Circuit Breaker Collars (required by AD 2006-22-06) | 2 | $3 | $163 | 875 | $142,625.
Installation of HSTCU (new proposed action) | 11 | Between $2,530 and $3,995 | Between $3,410 and $4,875 | 875 | Between $2,983,750 and $4,265,625.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14803 (71 FR 63219, October 30, 2006) and adding the following new airworthiness directive (AD):

Bombardier, Inc. (Formerly Canadair): Docket No. FAA-2006-26378; Directorate Identifier 2006-NM-230-AD.

Comments Due Date

(a) The FAA must receive comments on this AD action by December 22, 2006.

Affected ADs

(b) This AD supersedes AD 2006-22-06.

Applicability

(c) This AD applies to Bombardier Model CL-600-2B16 (CL-604) airplanes, serial numbers 5301 through 5665 inclusive; and Model CL-600-2B19 (Regional Jet Series 100 & 440) airplanes, serial numbers 7003 through 7990 inclusive and 8000 through 8066 inclusive; certificated in any category.

Note 1: The Model CL-600-2B19 (Regional Jet Series 100 & 440) airplanes may be referred to by their marketing designations as RJ100, RJ200, RJ440, CRJ100, CRJ200, CRJ440, and CL-65.

Unsafe Condition

(d) This AD results from reports of uncommanded horizontal stabilizer trim motion. We are issuing this AD to prevent horizontal stabilizer trim uncommanded motion, which could result in reduced controllability of the airplane.

Compliance

(e) You are responsible for having the actions required by this AD performed within the compliance times specified, unless the actions have already been done.

Restatement of Certain Requirements of AD 2006-22-06

Airplane Flight Manual (AFM) Revisions

(f) Within 14 days after November 14, 2006 (the effective date of AD 2006-22-06), make the applicable AFM revisions specified in paragraph (f)(1) or (f)(2) of this AD by incorporating the applicable Canadair (Bombardier) temporary revisions (TRs) identified in Table 1 of this AD into the applicable AFM.

(1) For Model CL-600-2B16 (CL-604) airplanes: Revise the Emergency and Abnormal Procedures sections of the AFM to advise the flightcrew of additional procedures to follow in the event of stabilizer trim runaway and to advise the flightcrew of revised procedures to follow in the event of MACH TRIM, STAB TRIM, and horizontal stabilizer trim malfunctions.

(2) For Model CL-600-2B19 (Regional Jet Series 100 & 440) airplanes: Revise the Emergency and Abnormal Procedures sections of the AFM to advise the flightcrew of revised procedures to follow in the event of stabilizer trim runaway and in the event of MACH TRIM, STAB TRIM, and horizontal stabilizer trim malfunctions.

Table 1.—TRs
For Bombardier Model— | Use— | Dated— | To the—
CL-600-2B16 (CL-604) airplanes | Canadair Challenger TR 604/21-1 | October 3, 2006 | Canadair Challenger CL-604 AFM, PSP 604-1.
CL-600-2B19 (Regional Jet Series 100 & 440) airplanes | Canadair Regional Jet TR RJ/152-5 | October 3, 2006 | Canadair Regional Jet AFM, CSP A-012.

(g) When the applicable TR specified in paragraph (f) of this AD has been included in the general revisions of the applicable AFM, those general revisions may be inserted into the AFM and the applicable TR may be removed, provided the relevant information in the general revisions is identical to that in the TR.

Installation of Circuit Breaker Identification Collars

(h) Within 14 days after November 14, 2006, install circuit breaker identification collars in accordance with Bombardier Modification Summary Package IS601R27410051, Revision C, dated September 29, 2006 (for Model CL-600-2B19 (Regional Jet Series 100 & 440) airplanes); or the Accomplishment Instructions of Bombardier Alert Service Bulletin A604-27-029, dated September 28, 2006 (for Model CL-600-2B16 (CL-604) airplanes); as applicable.

Additional AFM Revision

(i) For Model CL-600-2B19 (Regional Jet Series 100 & 440) airplanes: Within 14 days after November 14, 2006, revise the Normal section of the Canadair Regional Jet AFM, CSP A-012, to include the statement specified in Figure 1 of this AD. This may be done by inserting a copy of Figure 1 of this AD into the AFM.

Note 2: When a statement identical to that in paragraph (i) of this AD has been included in the general revisions of the applicable AFM, those general revisions may be inserted into the AFM, and the copy of this AD may be removed from the AFM.

(j) For Model CL-600-2B16 (CL-604) airplanes: Within 14 days after November 14, 2006, revise the Normal section of the Canadair Challenger CL-604 AFM, PSP 604-1, to include the following statement. This may be done by inserting a copy of this AD into the AFM.

“Prior to the flightcrew's first flight of the day, do the following actions:

1. Review the location of the STAB CH1 HSTCU and STAB CH2 HSTCU circuit breakers.

2. Check the stabilizer trim system as detailed in CL-604 AFM 'Normal Procedures' section titled ‘Flight Controls Trim Systems, Before Flight—First Flight of the Day.’ ”

Note 3: When a statement identical to that in paragraph (j) of this AD has been included in the general revisions of the applicable AFM, those general revisions may be inserted into the AFM, and the copy of this AD may be removed from the AFM.

Previous Actions Accomplished According to Modification Summary Package

(k) Actions accomplished before November 14, 2006, in accordance with Bombardier Modification Summary Package IS601R27410051, Revision A, dated September 18, 2006; or Revision B, dated September 27, 2006; are considered acceptable for compliance with the action specified in paragraph (h) of this AD, provided that the circuit breaker collars meet the color requirements of Bombardier Modification Summary Package IS601R27410051, Revision C, dated September 29, 2006.

New Requirements of This AD

Terminating Action—Installation of New, Improved Part

(l) Within 9 months after the effective date of this AD, install horizontal stabilizer trim control unit (HSTCU), part number (P/N) 601R92301-15 (vendor P/N 7060-10) or higher dash number, in accordance with the Accomplishment Instructions of Bombardier Alert Service Bulletin A604-27-029, dated September 28, 2006 (for Model CL-600-2B16 (CL-604) airplanes); or Bombardier Service Bulletin 601R-27-147, dated September 28, 2006 (for Model CL-600-2B19 (Regional Jet Series 100 & 440) airplanes); as applicable. After doing the installation, the AFM revisions required by paragraph (f) of this AD may be removed from the applicable AFM, and the circuit breaker identification collars required by paragraph (h) of this AD may be removed. After doing the installation, the AFM revision required by paragraphs (i) and (j) of this AD may also be removed from the AFM but operators should note that the functional check of the stabilizer trim system on the airplane's first flight of the day, as described in the AFM, must still be done.

Note 4: Bombardier Service Bulletin 601R-27-147, dated September 28, 2006, refers to Sagem Service Bulletin HSTCU-27-011, dated September 22, 2006, as an additional source of service information for accomplishment of the installation.

Service Bulletin Exception

(m) Although Bombardier Alert Service Bulletin A604-27-029, dated September 28, 2006, specifies to return certain parts to the manufacturer, this AD does not include that requirement.

Alternative Methods of Compliance (AMOCs)

(n)(1) The Manager, New York Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(o) Canadian airworthiness directives CF-2006-20R1, dated October 4, 2006, and CF-2006-21R1, dated October 3, 2006, also address the subject of this AD.

Issued in Renton, Washington, on November 6, 2006.
Ali Bahrami,
Manager, Transport Airplane Directorate, Aircraft Certification Service.

[FR Doc. E6-19798 Filed 11-21-06; 8:45 am]

BILLING CODE 4910-13-P